DEPARTMENT OF ENERGY

Federal Energy Regulatory Commission

Notice of Transfer of License and Soliciting Comments, Motions To Intervene, and Protests

July 31, 2001.

Take notice that the following hydroelectric application has been filed with the Commission and is available for public inspection:

a. Application Type: Transfer of License.

b. Project No.: 3701-037.

c. Date Filed: July 18, 2001.

d. Applicants: Yakima-Tieton Irrigation District (Transferor) and American Energy, L.L.C. (Transferee).

e. Name of Project: Tieton Dam.

f. Location: The proposed project is located at the U.S. Bureau of Reclamation's Tieton Dam and Reservoir on the Tieton River in Yakima County, Washington. The Bureau's dam and reservoir and a portion of the project's proposed transmission line occupy U.S. Forest Service lands.

g. Filed Pursuant to: Federal Power Act, 16 U.S.C. 791(a)-825(r).

h. Applicant Contact: Donald H. Clarke, Law Offices of GKRSE, 1500 K Street, NW., Suite 330, Washington, DC 20005, (202)408-5400; Ted S. Sorenson, American Energy, L.L.C., 5203 South 11th East, Idaho Falls, ID 83404, (208) 522-8609.

i. FERC Contact: Regina Saizan, (202) 219-2673.

j. Deadline for filing comments or motions: September 7, 2001.

All documents (original and eight copies) should be filed with: David P. Boergers, Secretary, Federal Energy Regulatory Commission, 888 First Street, NE., Washington, DC 20426. Comments, protests and interventions may be filed electronically via the Internet in lieu of paper. See, 18 CFR 385.2001(a)(1)(iii) and the instructions on the Commission's web site under the “e-Filing” link.

Please include the Project Number (3701-037) on any comments or motions filed.

k. Description of Transfer: The Yakima-Tieton Irrigation District (YTID) has determined that it does not wish to complete the development of the project itself and has solicited bid proposals from qualified hydroelectric project developers. American Energy, L.L.C. submitted a proposal that was determined by YTID to be the best bid and was accepted by YTID. In accordance with the transfer agreement between American Energy, L.L.C. and YTID, American Energy, L.L.C. will acquire the project license, subject to Commission approval, and continue with the development of the project, for which construction was commenced on May 18, 2001 by fabrication of the project generating equipment.

l. Location of the Application: Copies of this filing are on file with the Commission and are available for public inspection. This filing may be viewed on the Commission's web site at http://www.ferc.gov using the “RIMS” link, select “Docket #” and follow the instructions ((202) 208-2222 for assistance). A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-19534 Filed 8-2-01; 8:45 am]

BILLING CODE 6717-01-P